DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Division of Trade Adjustment Assistance, at the address shown below, not later than July 14, 2003.

Interested persons are invited to submit written comments regarding the subject matter of the investigations to the Director, Division of Trade Adjustment Assistance, at the address shown below, not later than July 14, 2003.

The petitions filed in this case are available for inspection at the Office of the Director, Division of Trade Adjustment Assistance, Employment and Training Administration, U.S. Department of Labor, Room C-5311, 200 Constitution Avenue, NW., Washington, DC 20210.

Signed at Washington, DC, this 18th day of June 2003.
Timothy Sullivan,
Director, Division of Trade Adjustment Assistance.

Appendix
[Petitions instituted between 06/10/2003 and 06/13/2003.]
TA-W | Subject firm (petitioners) | Location | Date of institution | Date of petition
51,976 | John Schandelmeier (Comp) | Paxson, AK | 06/10/2003 | 05/31/2003
51,977 | Fishing Vessel (F/V) Vickie Rae (Comp) | Sand Point, AK | 06/10/2003 | 06/05/2003
51,978 | Atlas Cold Storage Midwest Ltd. (Comp) | Green Bay, WI | 06/10/2003 | 06/04/2003
51,979 | Oh, Baby Enterprise, Ltd. (Wkrs) | New York, NY | 06/10/2003 | 06/03/2003
51,980 | Decibel Products (Wkrs) | Dallas, TX | 06/10/2003 | 03/28/2003
51,981 | Emerson Climate Technologies Flow (IAM) | St. Louis, MO | 06/10/2003 | 06/05/2003
51,982 | General Mills (Comp) | Hillsdale, MI | 06/10/2003 | 06/04/2003
51,983 | Smurfit-Stone Container (Wkrs) | El Paso, TX | 06/10/2003 | 05/22/2003
51,984 | Martinrea Industries, Inc. (Comp) | Machester, MI | 06/10/2003 | 06/09/2003
51,985 | U.S. Castings (Comp) | Anniston, AL | 06/10/2003 | 06/02/2003
51,986 | Amyx Industries (Comp) | West Plains, MO | 06/10/2003 | 06/02/2003
51,987 | EGS Electrical Group (Wkrs) | Columbus, NE | 06/10/2003 | 06/06/2003
51,988 | Vishay-North American Capacitor Co. (Comp) | Greencastle, IN | 06/10/2003 | 06/06/2003
51,989 | Coates Screen Inc. (UNITE) | E. Rutherford, NJ | 06/10/2003 | 05/30/2003
51,990 | Waterfront Sportswear, Inc. (Comp) | Fall River, MA | 06/10/2003 | 06/05/2003
51,991 | Gateway Hosiery (Comp) | N. Wilkesboro, NC | 06/10/2003 | 06/04/2003
51,992 | American Standard, Inc. (Comp) | Paintsville, KY | 06/10/2003 | 06/06/2003
51,993 | Cummins (Comp) | Fridley, MN | 06/10/2003 | 06/04/2003
51,994 | Jakel, Inc. (Wkrs) | Clinton, KY | 06/10/2003 | 06/03/2003
51,995 | Occidental Chemical Corporation (Wkrs) | Castle Hayne, NC | 06/10/2003 | 05/31/2003
51,996 | Borden Chemical, Inc. (Comp) | Mt. Jewett, PA | 06/10/2003 | 06/06/2003
51,997 | A. Schulman, Inc. (PACE) | Orange, TX | 06/10/2003 | 06/02/2003
51,998 | Ameripol Synpol Corp. (PACE) | Port Neches, TX | 06/10/2003 | 06/02/2003
51,999 | Thunderbird Mining Co. (Comp) | Eveleth, MN | 06/10/2003 | 06/05/2003
52,000 | Fishing Vessel (F/V) Night Hawk (Comp) | Warrenton, NH | 06/11/2003 | 06/07/2003
52,001 | Risdon AMS | Laconia, NH | 06/11/2003 | 06/10/2003
52,002 | Allister Fabricating, Iinc. (Comp) | Lannon, WI | 06/11/2003 | 06/10/2003
52,003 | Menlo Worldwide Logistics (Comp) | Edisoin, NJ | 06/11/2003 | 05/30/2003
52,004 | Golden Casting (GMP) | Columbus, IN | 06/11/2003 | 05/22/2003
52,005 | Reliability, Inc. (VT) | Benson, VT | 06/11/2003 | 06/04/2003
52,006 | America Online (Wkrs) | Oklahoma City, OK | 06/11/2003 | 06/03/2003
52,007 | American London Norwood (Comp) | Norwood, MA | 06/11/2003 | 05/29/2003
52,008 | Epic (Wkrs) | Norwalk, OH | 06/11/2003 | 05/16/2003
52,009 | AGFA Corporation (Wkrs) | Newark, DE | 06/11/2003 | 05/28/2003
52,010 | Imperial of Morristown, Inc. (Comp) | Morristown, TN | 06/11/2003 | 06/05/2003
52,011 | F/V Nanesse (Comp) | Skagway, AK | 06/12/2003 | 06/11/2003
52,012 | Mark Lemon (Comp) | Kasilof, AK | 06/12/2003 | 06/06/2003
52,013 | Shipley Company LLC (Comp) | Spartanburg, SC | 06/12/2003 | 05/29/2003
52,014 | Robert Bosch Corp. (UAW) | Kentwood, MI | 06/12/2003 | 06/10/2003
52,015 | Baxter Healthcare (AR) | Mt. Home, AR | 06/12/2003 | 06/10/2003
52,016 | Trio Dyeing and Finishing (UNITE) | Paterson, NJ | 06/12/2003 | 05/20/2003
52,017 | Bush Industries (Wrks) | St. Paul, VA | 06/12/2003 | 06/01/2003
52,018 | ICT (Wkrs) | Lewiston, ME | 06/12/2003 | 06/02/2003
52,019 | Actronix, Incl. (AR) | Flippin, AR | 06/12/2003 | 06/10/2003
52,020 | Dura Automotive Systems, Inc. (Comp) | Fulton, KY | 06/12/2003 | 06/04/2003
52,021 | Eagle Ottawa LLC (Comp) | Rochester Hills, MI | 06/12/2003 | 05/16/2003
52,022 | Nortel Networks (Wkrs) | RTP, NC | 06/12/2003 | 05/06/2003
52,023 | Trevorton Manufacturing, Inc. (Comp) | Trevorton, PA | 06/12/2003 | 06/02/2003
52,024 | Stitches, Inc. (Comp) | Sunbury, PA | 06/12/2003 | 06/02/2003
52,025 | Dynamco (Comp) | McKinney, TX | 06/12/2003 | 06/11/2003
52,026 | Neff Motivation, Inc. (Comp) | Greenvile, OH | 06/13/2003 | 06/12/2003
52,027 | ADC Telecommunications, Inc. (Wkrs) | New Hope, MN | 06/13/2003 | 05/13/2003
52,028 | Eaton Corporation (Comp) | Brooksville, FL | 06/13/2003 | 06/13/2003
52,029 | Medway Plastics Corporation (CA) | Long Beach, CA | 06/13/2003 | 05/14/2003
52,030 | Plassein International (Comp) | Martin, MI | 06/13/2003 | 06/06/2003
52,031 | Swing-N-Slide (Comp) | Janesville, WI | 06/13/2003 | 06/13/2003
52,032 | Precision Interconnect (Comp) | Broomfield, CO | 06/13/2003 | 06/12/2003
52,033 | Images 2, Inc. (Comp) | Lexington, AL | 06/13/2003 | 05/23/2003
52,034 | Lion Bioscience (Wkrs) | Cleveland, OH | 06/13/2003 | 06/11/2003
52,035 | Ingram Micro, Inc. (NY) | Williamsville, NY | 06/13/2003 | 05/19/2003
52,036 | WiCat Systems, Inc. (UT) | Lindon, UT | 06/13/2003 | 06/11/2003

[FR Doc. 03-16872 Filed 7-2-03; 8:45 am]

BILLING CODE 4510-30-M